DEPARTMENT OF THE INTERIOR

National Park Service

Notice of Inventory Completion for Native American Human Remains and Associated Funerary Objects in the Possession of the Milwaukee Public Museum, Milwaukee, WI

AGENCY: National Park Service, Interior.

ACTION: Notice.

Notice is hereby given in accordance with provisions of the Native American Graves Protection and Repatriation Act (NAGPRA), 43 CFR 10.9, of the completion of an inventory of human remains and associated funerary objects in the possession of the Milwaukee Public Museum, Milwaukee, WI.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by Milwaukee Public Museum professional staff and contract specialists in physical anthropology, in consultation with representatives of the Pawnee Nation of Oklahoma.

In 1927, A.M. Brooking, founder of the Hastings Museum, Hastings, NE, removed human remains representing one individual from a Skidi Pawnee village four miles east of Cushing, Howard County, NE. In 1928, the Hastings Museum donated these remains to the Milwaukee Public Museum as part of a collection exchange. No known individual was identified. No associated funerary objects are present.

Based on cranial morphology and dental characteristics, these human remains are identified as Native American. Milwaukee Public Museum records state that these remains were removed from a Pawnee village. Consultation evidence indicates that the location of the village is within the traditional territory of the Pawnee Nation of Oklahoma.

Based on the above-mentioned information, officials of the Milwaukee Public Museum have determined that, pursuant to 43 CFR 10.2 (d)(1), the human remains listed above represent the physical remains of one individual of Native American ancestry. Officials of the Milwaukee Public Museum also have determined that, pursuant to 43 CFR 10.2 (e), there is a relationship of shared group identity that can be reasonably traced between these Native American human remains and the Pawnee Nation of Oklahoma.

This notice has been sent to officials of the Pawnee Nation of Oklahoma. Representatives of any other Indian tribe that believes itself to be culturally affiliated with these human remains should contact Dr. Alex Barker, Anthropology Section Head, Milwaukee Public Museum, 800 West Wells Street, Milwaukee, WI 53233, telephone (414) 278-2786, before March 23, 2001. Repatriation of the human remains to the Pawnee Nation of Oklahoma may begin after that date if no additional claimants come forward.

Dated: February 5, 2001.
John Robbins,
Assistant Director, Cultural Resources, Stewardship, and Partnerships.

[FR Doc. 01-4303 Filed 2-20-01; 8:45 am]

BILLING CODE 4310-70-F